DEPARTMENT OF AGRICULTURE

Agricultural Marketing Service

[Doc. No. AMS-NOP-25-0034]

Rescheduled Meeting of the National Organic Standards Board

AGENCY: Agricultural Marketing Service, USDA.

ACTION: Notice of public meeting.

SUMMARY: In accordance with the Federal Advisory Committee Act, as amended, the Agricultural Marketing Service (AMS), USDA, is announcing a rescheduled meeting of the National Organic Standards Board (NOSB). The NOSB assists USDA in the development of standards for substances to be used in organic production and advises the Secretary of Agriculture on any other aspects of the implementation of the Organic Foods Production Act (OFPA).

DATES: A virtual meeting will be held January 13-14, 2026, from 11:00 a.m. to approximately 5:00 p.m. Eastern Time (ET) each day. The deadline to submit written comments is December 30, 2025.

ADDRESSES: The meeting is virtual and will be accessed via the internet and/or phone. Access information will be available on the AMS website prior to the meeting. Detailed information can be found at https://www.ams.usda.gov/event/national-organic-standards-board-nosb-meeting-fall-2025.

FOR FURTHER INFORMATION CONTACT: Ms. Michelle Arsenault, Advisory Committee Specialist, National Organic Standards Board, USDA-AMS-NOP, 1400 Independence Avenue SW, Room 2642-S, STOP 0268, Washington, DC 20250-0268; phone: (202) 997-0115; email: nosb@usda.gov.

SUPPLEMENTARY INFORMATION: In accordance with the Federal Advisory Committee Act, 5 U.S.C. 10, and 7 U.S.C. 6518(e), as amended, AMS is announcing a rescheduled meeting of the NOSB. This meeting replaces the NOSB meeting scheduled for November 4-6, 2025, which was cancelled. The NOSB makes recommendations to USDA about whether substances should be allowed or prohibited in organic production and/or handling, assists in the development of standards for organic production, and advises the Secretary on other aspects of the implementation of the Organic Foods Production Act, 7 U.S.C. 6501, et seq. NOSB is holding a public meeting to discuss and vote on proposed recommendations to USDA, to obtain updates from the NOP on issues pertaining to organic agriculture, and to receive comments from the organic community. All meeting documents and instructions for participating will be available on the AMS website at https://www.ams.usda.gov/event/national-organic-standards-board-nosb-meeting-fall-2025. Please check the website periodically for updates. Meeting topics will encompass a wide range of issues, including substances petitioned for addition to, or removal from, the National List of Allowed and Prohibited Substances (National List), substances on the National List that are under sunset review, and guidance on organic policies.

Written Comments: Written public comments will be accepted until December 30, 2025, via https://www.regulations.gov (Doc. No. AMS-NOP-25-0034). Comments submitted after this date will be added to the public comment docket, but Board members may not have adequate time to consider those comments prior to making recommendations. NOP strongly prefers comments to be submitted electronically. However, written comments may also be submitted (i.e., postmarked) via mail, by or before December 30, 2025, to the person listed under FOR FURTHER INFORMATION CONTACT.

Meeting Accommodations: USDA provides reasonable accommodation to individuals with disabilities where appropriate. If you require reasonable accommodation, please make requests in advance for sign language interpretation, assistive listening devices, or other reasonable accommodation to the person listed under FOR FURTHER INFORMATION CONTACT. Determinations for reasonable accommodation will be made on a case-by-case basis.

Equal opportunity practices, in accordance with USDA policies, will be followed in all membership appointments to the Committee.

In accordance with Federal civil rights law and USDA civil rights regulations and policies, USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: December 10, 2025.
Cikena Reid,
USDA Committee Management Officer.

[FR Doc. 2025-22761 Filed 12-12-25; 8:45 am]

BILLING CODE 3410-02-P